DEPARTMENT OF HEALTH AND HUMAN SERVICES

[Document Identifier: OS-0990-0223; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be received within 30 days of this notice directly to the OS OMB Desk Officer all comments must be faxed to OMB at 202-395-6974.

Proposed Project: Evaluation of the Cash and Counseling Demonstration—OMB No. 0990-0223—Reinstatement with Changes—Assistant Secretary of Planning and Evaluation (ASPE).

Abstract: The original evaluation of the national Cash and Counseling Demonstration was intended to include three groups: self-directing consumers, a control group, and non-participants. When funding was not available to survey all groups, the non-participant sample was removed. The subsequent evaluations showed that self-directing consumers were more satisfied with their supportive services, reported fewer unmet needs, and enjoyed greater well-being than other Medicaid programs. Still, despite these apparent benefits, relatively few of the beneficiaries who were eligible to participate in Cash and Counseling demonstrations elected to do so (8 to 15 percent). Since that time, the Cash and Counseling program has been expanded under the 1915(j)(2) Section of the Deficit Reduction Act of 2005 and beginning January 1, 2007, states were permitted to offer the program to Medicaid recipients without demonstrating budget neutrality and without a requirement for periodic renewal of the state plan amendment as required for “1115” or “1915” (c) waivers.

This study involves drawing a sample from Medicaid beneficiaries in New Jersey who are eligible to enroll in the state's Cash and Counseling program. The qualifications for enrollment have not changed since the original research. This study will include only individuals who did not enroll (non-participants) who will be compared to those who did enroll (and about whom data were collected) during the original demonstration/evaluation data collection as well as those who have enrolled since (about whom the state of New Jersey collects descriptive data for Medicaid program administrative purposes). The government will conduct 600 one-time telephone interviews over a three-month period. The survey includes questions asked in the original evaluation of the Cash and Counseling demonstration surveys, as well as original questions designed to measure factors related to nonparticipation. These questions will allow comparisons between participants and non-participants of the Cash and Counseling demonstration.

Estimated Annualized Burden Hours
Type of respondent | Form name | Number of respondents | Number responses per respondent | Average burden per response (in hours) | Total burden hours
Non-Participants (or Proxies) | Telephone Interview | 600 | 1 | 27/60 | 270

Mary Oliver-Anderson,
Office of the Secretary, Paperwork Reduction Act Reports Clearance Officer.

[FR Doc. E8-15571 Filed 7-8-08; 8:45 am]

BILLING CODE 4150-05-P